DEPARTMENT OF COMMERCE

National Oceanic and Atmospheric Administration

RIN 0648-XT67

New England Fishery Management Council; Public Meeting

AGENCY: National Marine Fisheries Service (NMFS), National Oceanic and Atmospheric Administration (NOAA), Commerce.

ACTION: Notice of a public meeting.

SUMMARY: The New England Fishery Management Council (Council) will hold a 3-day Council meeting to consider actions affecting New England fisheries in the exclusive economic zone (EEZ).

DATES: The meeting will be held on Tuesday, January 26 through Thursday, January 28, 2010. The meeting will begin at 8:30 a.m. on each of the 3 meeting days.

ADDRESSES: The meeting will be held at the Sheraton Harborside Hotel, 250 Market Street, Portsmouth, NH 03801; telephone: (603) 431-2300 and fax: (603) 433-5649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, January 26, 2010

Following introductions and any announcements, the Council will receive a series of brief reports from the Council Chairman and Executive Director, the NOAA Fisheries Northeast Regional Administrator, Northeast Fisheries Science Center and Mid-Atlantic Fishery Management Council liaisons, NOAA General Counsel, representatives of the U.S. Coast Guard and the Atlantic States Marine Fisheries Commission, as well as NOAA Enforcement. These reports will be followed by a review of any experimental fishery permit applications that have been received since the last Council meeting. During the morning session the Council also will review sector implementation as developed in the Northeast Multispecies (Groundfish) Fishery Management Plan (FMP) as part of a report to be provided by the National Marine Fisheries Service Regional Office staff from Gloucester, MA. After a lunch break, the Council will review and provide feedback to the Northeast Fisheries Science Center on their performance monitoring and evaluation plan concerning existing and future catch share programs. The Council's Herring Committee will present an overview of the management measures proposed in Amendment 4 to the Atlantic Herring FMP, including the establishment of annual catch limits and accountability measures, and select final measures before submitting the action to NMFS. NOAA leadership will present a briefing on its Catch Shares Policy and conduct a question and answer session following the presentation.

Wednesday, January 27, 2010

The second day of the Council meeting will begin with a discussion about and possible reconsideration of Framework 21 to the Atlantic Sea Scallop FMP. Pending the outcome of this agenda item, the Council also may revisit Framework 44 to the Northeast Multispecies FMP to change the yellowtail flounder allocation to the scallop fleet in that action. Later, the Groundfish Committee will ask for approval of alternative rebuilding strategy options for the Georges Bank yellowtail flounder stock. The Chairman of the Scientific and Statistical Committee (SSC) will report on the committee's comments concerning a model developed by the Habitat Plan Development Team (PDT) to analyze alternatives to minimize adverse impacts of fishing activities. The SSC also will report on the process-related issues addressed at the last SSC meeting as well as the comments of SSC members on the published proposed rule concerning practices and procedures related to National Standard 2. The Habitat Committee will comment, where appropriate, about the model developed by its PDT, as well as on President Obama's Interagency Ocean Policy Task Force Report: Interim Framework for Effective Coastal and Marine Spatial Planning.

Thursday, January 28, 2010

The Council will begin the last day of the meeting with a discussion of several outstanding issues related to work priorities for 2010. The Northeast Fisheries Science Center staff will follow with two reports, one on the status of projected observer days-at-sea for the upcoming year in accordance with the Council's Standard Bycatch Reporting Methodology rules and another on the Vessel Calibration Workshop held late last year. The Council also intends to approve a range of alternatives to be analyzed in Amendment 3 to the Red Crab FMP. The action will include annual catch limits and accountability measures, and possibly a total allowable catch for the fleet. The day will conclude with an open period for public comments about items not listed on the agenda but related to Council business and any other outstanding issues that were postponed until the end of the meeting.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 11, 2010.
Tracey L. Thompson,
Acting Director, Office of Sustainable Fisheries, National Marine Fisheries Service.

[FR Doc. 2010-623 Filed 1-12-10; 8:45 am]

BILLING CODE 3510-22-S